DEPARTMENT OF HOMELAND SECURITY

Federal Emergency Management Agency

44 CFR Part 65

[Docket No. FEMA-B-7455]

Changes in Flood Elevation Determinations

AGENCY: Federal Emergency Management Agency (FEMA), Department of Homeland Security.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps in effect prior to this determination for the listed communities.

From the date of the second publication of these changes in a newspaper of local circulation, any person has ninety (90) days in which to request through the community that the Mitigation Division Director reconsider the changes. The modified BFEs may be changed during the 90-day period.

ADDRESSES: The modified BFEs for each community are available for inspection at the office of the Chief Executive Officer of each community. The respective addresses are listed in the table below.

FOR FURTHER INFORMATION CONTACT: Doug Bellomo, P.E. Hazard Identification Section, Mitigation Division, FEMA, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to Section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities.

The changes BFEs are in accordance with 44 CFR 65.4.

National Environmental Policy Act. This rule is categorically excluded from the requirements of 44 CFR Part 10, Environmental Consideration. No environmental impact assessment has been prepared.

Regulatory Flexibility Act. The Mitigation Division Director for the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Q P='02'>

Accordingly, 44 CFR Part 65 is amended to read as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case number | Date and name of newspaper where notice was published | Chief executive officer of community | Effective date of modification | Community number
Alabama: Tuscaloosa | City of Northport, (04-04-B101P) | November 9, 2005, November 16, 2005; Northport Gazette | The Honorable Harvey Fretwell, Mayor, City of Northport, City Hall, 3500 McFarland Boulevard, Northport, Alabama 35476 | February 15, 2006 | 010202
Arkansas: Craighead | City of Jonesboro, (05-06-1627P) | October 12, 2005, October 19, 2005; Jonesboro Sun | The Honorable Doug Forman, Mayor, City of Jonesboro, City Hall, 515 West Washington Avenue, Jonesboro, Arkansas 72401 | January 18, 2006 | 050048
Arkansas: Washington | City of Fayetteville, (05-06-0478P) | July 21, 2005, July 28, 2005; Arkansas Democrat Gazette | The Honorable Dan Coudy, Mayor, City of Fayetteville, 113 West Mountain Street, Fayetteville, Arkansas 72701 | October 27, 2005 | 050216
Arizona: Coconino | City of Flagstaff, (04-09-1242P) | June 9, 2005, June 16, 2005; Arizona Daily Sun | The Honorable Joseph C. Donaldson, Mayor, City of Flagstaff, 211 West Aspen Avenue, Flagstaff, Arizona 86001 | September 15, 2005 | 040020
Arizona: Coconino | City of Flagstaff, (04-09-0997P) | October 12, 2005, October 19, 2005; Arizona Daily Sun | The Honorable Joseph C. Donaldson, Mayor, City of Flagstaff, 211 West Aspen Avenue, Flagstaff, Arizona 86001 | January 18, 2006 | 040020
Arizona: Coconino | Unincorporated areas of Coconino, (04-09-0997P) | October 12, 2005, October 19, 2005; Arizona Daily Sun | The Honorable Elizabeth Archuleta, Chair, Coconino County Board of Supervisors, 219 East Cherry Avenue, Flagstaff, Arizona 86001 | January 18, 2006 | 040019
Arizona: Maricopa | City of Avondale, (04-09-0933P) | May 26, 2005, June 2, 2005; Arizona Business Gazette | The Honorable Ronald J. Drake, Mayor, City of Avondale, 525 North Central Avenue, Avondale, Arizona 85323 | May 17, 2005 | 040038
Arizona: Maricopa | City of Fountain Hills, (03-09-1143P) | May 19, 2005, May 26, 2005; The Tribune | The Honorable Wallace Nichols, Mayor, Town of Fountain Hills, P.O. Box 17958, Fountain Hills, Arizona 85269 | August 25, 2005 | 040135
Arizona: Maricopa | City of Peoria, (05-09-1137P) | July 7, 2005, July 14, 2005; Arizona Business Gazette | The Honorable John Keegan, Mayor, City of Peoria, City of Peoria Municipal Complex, 8401 West Monroe Street, Peoria, Arizona 85345 | October 12, 2005 | 040050
Arizona: Maricopa | City of Phoenix, (04-09-0933P) | May 26, 2005, June 2, 2005; Arizona Business Gazette | The Honorable Phil Gordon, Mayor, City of Phoenix, 200 West Washington Street, 11th Floor, Phoenix, Arizona 85003-1611 | May 17, 2005 | 040051
Arizona: Maricopa | City of Phoenix, (05-09-0164P) | September 22, 2005, September 29, 2005; Arizona Business Gazette | The Honorable Phil Gordon, Mayor, City of Phoenix, 200 West Washington Street, 11th Floor, Phoenix, Arizona 85003-1611 | December 29, 2005 | 040051
Arizona: Maricopa | City of Phoenix, (05-09-0700P) | October 6, 2005, October 13, 2005; Arizona Business Gazette | The Honorable Phil Gordon, Mayor, City of Phoenix, 200 West Washington Street, 11th Floor, Phoenix, Arizona 85003-1611 | January 12, 2006 | 040051
Arizona: Maricopa | Unincorporated Areas, (04-09-0933P) | May 26, 2005, June 2, 2005; Arizona Business Gazette | The Honorable Max W. Wilson, Chairman, Maricopa County Board of Supervisors, 301 West Jefferson Street, 10th Floor, Phoenix, Arizona 85003 | May 17, 2005 | 040037
Arizona: Maricopa | Unincorporated Areas, (05-09-1137P) | July 7, 2005, July 14, 2005; Arizona Business Gazette | The Honorable Max W. Wilson, Chairman, Maricopa County Board of Supervisors, 301 West Jefferson Street, 10th Floor, Phoenix, Arizona 85003 | October 12, 2005 | 040037
Arizona: Maricopa | Unincorporated Areas, (05-09-0236P) | August 4, 2005, August 11, 2005; Arizona Business Gazette | The Honorable Max W. Wilson, Chairman, Maricopa County Board of Supervisors, 301 West Jefferson Street, 10th Floor, Phoenix, Arizona 85003 | November 10, 2005 | 040037
Arizona: Maricopa | Unincorporated Areas, (05-09-0159P) | October 6, 2005, October 13, 2005; Arizona Business Gazette | The Honorable Max W. Wilson, Chairman, Maricopa County Board of Supervisors, 301 West Jefferson Street, 10th Floor, Phoenix, Arizona 85003 | September 27, 2005 | 040037
Arizona: Pima | Town of Marana, (05-09-0118P) | July 19, 2005, July 26, 2005; The Daily Territorial | The Honorable Bobby Sutton, Mayor, Town of Marana, 13251 North Lon Adams Road, Marana, Arizona 85653 | October 25, 2005 | 040118
Arizona: Pima | Unincorporated Areas, (05-09-0118P) | July 19, 2005, July 26, 2005; The Daily Territorial | The Honorable Sharon Bronson, Chair, Pima County Board of Supervisors, 130 West Congress Street, 11th Floor, Tucson, Arizona 85701 | October 25, 2005 | 040073
Arizona: Santa Cruz | City of Nogales, (04-09-0303P) | May 10, 2005, May 17, 2005; Nogales International | The Honorable Albert M. Kramer, Mayor, City of Nogales, City Hall, 777 North Grand Avenue, Nogales, Arizona 85621 | August 16, 2005 | 040091
California: Alameda | City of Alameda, (05-09-1010P) | September 21, 2005, September 28, 2005; Daily Journal Alameda Times Star | The Honorable Beverly Johnson, Mayor, City of Alameda, 2263 Santa Clarita Avenue, Room 320, Alameda, California 94501 | December 28, 2005 | 060002
California: Amador | City of Jackson, (05-09-0292P) | June 17, 2005, June 24, 2005; Amador Ledger Dispatch | The Honorable RosaLee Pryor, Mayor, City of Jackson, 33 Broadway, Jackson, California 95642-2301 | June 7, 2005 | 060448
California: San Diego | Unincorporated Areas, (05-09-0948P) | August 11, 2005, August 18, 2005; San Diego Daily Transcript | The Honorable Pam Slater-Price, Chairwoman, San Diego County Board of Supervisors, 1600 Pacific Highway, Room 335, San Diego, California 92101 | November 17, 2005 | 060284
California: Solano | City of Fairfield, (03-09-1349P) | July 21, 2005, July 28, 2005; Daily Republic | The Honorable Karin MacMillan, Mayor, City of Fairfield, c/o City Manager's Office, 1000 Webster Street, Fairfield, California 94533 | October 27, 2005 | 060370
California: Solano | City of Rio Vista, (04-09-1389P) | June 15, 2005, June 22, 2005; River News-Herald | The Honorable James E. Woodruff, Mayor, City of Rio Vista, One Main Street, Rio Vista, California 94571 | June 7, 2005 | 060371
Colorado: Adams | City of Thornton, (05-08-0281P) | August 5, 2005, August 12, 2005; Eastern Colorado News | The Honorable Noel Busck, Mayor, City of Thornton, 9500 Civic Center Drive, Thornton, Colorado 80229 | November 10, 2005 | 080007
Colorado: Broomfield | City of Broomfield, (05-08-0261P) | June 15, 2005, June 22, 2005; Broomfield Enterprise | The Honorable Karen Stuart, Mayor, City and County of Broomfield, One DesCombes Drive, Broomfield, Colorado 80020 | June 9, 2005 | 085073
Colorado: El Paso | City of Colorado Springs, (05-08-0185P) | September 14, 2005, September 21, 2005; El Paso County News | The Honorable Lionel Rivera, Mayor, City of Colorado Springs, P.O. Box 1575, Colorado Springs, Colorado 80901 | August 30, 2005 | 080060
Colorado: El Paso | Unincorporated Areas, (05-08-0459P) | August 24, 2005, August 31, 2005; El Paso County News | The Honorable Jim Bensberg, Chairman, El Paso County Board of Commissioners, 27 East Vermijo Avenue, Colorado Springs, Colorado 80903-2208 | November 30, 2005 | 080059
Colorado: El Paso | Unincorporated Areas, (04-08-0779P) | August 31, 2005, September 7, 2005; El Paso County News | The Honorable Jim Bensberg, Chairman, El Paso County Board of Commissioners, 27 East Vermijo Avenue, Colorado Springs, Colorado 80903-2208 | December 7, 2005 | 080059
Colorado: El Paso | Unincorporated Areas, (05-08-0185P) | September 14, 2005, September 21, 2005; El Paso County News | The Honorable Jim Bensberg, Chairman, El Paso County Board of Commissioners, 27 East Vermijo Avenue, Colorado Springs, Colorado 80903-2208 | August 30, 2005 | 080059
Colorado: Gilpin | City of Black Hawk, (04-08-0678P) | June 24, 2005, July 1, 2005; Weekly Register-Call | The Honorable Kathryn Eccker, Mayor, City of Black Hawk, P.O. Box 17, Black Hawk, Colorado 80422 | September 30, 2005 | 080076
Colorado: Jefferson | City of Lakewood, (05-08-0227P) | October 6, 2005, October 13, 2005; The Golden Transcript | The Honorable Steve Burkholder, Mayor, City of Lakewood, Lakewood Civic Center, South, 480 South Allison Parkway, Lakewood, Colorado 80226 | January 12, 2006 | 085075
Colorado: Larimer | Unincorporated Areas, (04-08-0564P) | September 7, 2005, September 14, 2005; Fort Collins Coloradoan | The Honorable Kathay Rennels, Chair, Larimer County, Board of Commissioners, P.O. Box 1190, Fort Collins, Colorado 80522-1190 | December 14, 2005 | 080101
Colorado: Ouray | City of Ouray, (05-08-0297P) | September 2, 2005, September 9, 2005; Telluride Watch | The Honorable Pam Larson, Mayor, City of Ouray, P.O. Box 468, Ouray, Colorado 81472 | December 9, 2005 | 080137
Colorado: Pitkin | Unincorporated Areas, (05-08-0310P) | August 28, 2005, September 4, 2005; Aspen Times Weekly | The Honorable Patti Kay-Clapper, Chair, Pitkin County Board of Commissioners, 530 East Main Street, Third Floor, Aspen, Colorado 81611 | August 15, 2005 | 080287
Colorado: San Miguel | Town of Telluride, (05-08-0263P) | November 4, 2005, November 11, 2005; Telluride Watch | The Honorable John Pryor, Mayor, Town of Telluride, P.O. Box 397, Telluride, Colorado 81435 | February 10, 2006 | 080168
Colorado: San Miguel | Unincorporated Areas, (05-08-0263P) | November 4, 2005, November 11, 2005; Telluride Watch | The Honorable Art Goodtimes, Chairman, San Miguel County Board of Commissioners, P.O. Box 1170, Telluride, Colorado 81435 | February 10, 2006 | 080166
Connecticut: Fairfield | Town of Greenwich, (05-01-0060P) | June 30, 2005, July 7, 2005; Greenwich Times | The Honorable Jim Lash, First Selectman, Town of Greenwich, Town Hall, 101 Field Point Road, Greenwich, Connecticut 06830 | June 15, 2005 | 090008
Connecticut: Fairfield | Town of Greenwich, (05-01-0688P) | October 27, 2005, November 3, 2005; Greenwich Times | The Honorable Jim Lash, First Selectman, Town of Greenwich, Town Hall, 101 Field Point Road, Greenwich, Connecticut 06830 | October 11, 2005 | 090008
Connecticut: New Haven | Town of Guilford, (05-01-0245P) | June 8, 2005, June 15, 2005; The New Haven Register | The Honorable Charles “Gene” Bishop, First Selectman, Office of the Board of Selectmen, Town of Guilford, 31 Park Street, Guilford, Connecticut 06437 | May 23, 2005 | 090077
Connecticut: New Haven | Town of Guilford, (05-01-0578P) | November 3, 2005, November 10, 2005; New Haven Register | The Honorable Charles “Gene” Bishop, First Selectman, Town of Guilford, 31 Park Street, Guilford, Connecticut 06437 | February 9, 2006 | 090077
Delaware: New Castle | Unincorporated Areas, (04-03-A042P) | September 8, 2005, September 15, 2005; News Journal | The Honorable Chris A. Coons, New Castle County Executive, New Castle County Government Center, 87 Reads Way, New Castle, Delaware 19720 | July 25, 2005 | 105085
Florida: Duval | City of Jacksonville, (05-04-3653P) | October 10, 2005, October 17, 2005; Jacksonville Daily Record | The Honorable John Peyton, Mayor, City of Jacksonville, City Hall, Fourth Floor, 117 West Duval Street, Suite 400, Jacksonville, Florida 32202 | January 17, 2006 | 120077
Florida: Polk | Unincorporated Areas, (05-04-0457P) | June 23, 2005, June 30, 2005; Polk County Democrat | Mr. Michael Herr, County Manager, Polk County, P.O. Box 9005, Drawer BC01, Bartow, Florida 33831-9005 | June 13, 2005 | 120261
Florida: Miami-Dade | City of Miami, (05-04-1122P) | October 6, 2005, October 13, 2005; Miami Herald | The Honorable Manuel A. Diaz, Mayor, City of Miami, 3500 Pan American Drive, Miami, Florida 33133 | July 22, 2005 | 120650
Georgia: Bartow | City of Cartersville, (05-04-0630P) | August 11, 2005, August 18, 2005; Daily Tribune News | The Honorable Michael G. Fields, Mayor, City of Cartersville, P.O. Box 1390, Cartersville, Georgia 30120 | November 17, 2005 | 130209
Georgia: Bartow | Unincorporated Areas, (05-04-0630P) | August 11, 2005, August 18, 2005; Daily Tribune News | The Honorable Clarence Brown, Bartow County Commissioner, 135 West Cherokee Avenue, Suite 251, Cartersville, Georgia 30120 | November 17, 2005 | 130463
Georgia: Gwinnett | City of Lawrenceville, (05-04-1268P) | August 18, 2005, August 25, 2005; Gwinnett Daily Post | The Honorable Bobby J. Sikes, Mayor, City of Lawrenceville, 70 South Clayton Street, Lawrenceville, Georgia 30045 | November 25, 2005 | 130099
Hawaii: Hawaii | Hawaii County, (05-09-0238P) | August 25, 2005, September 1, 2005; Hawaii Tribune-Herald | The Honorable Harry Kim, Mayor, Hawaii County, 25 Aupuni Street, Hilo, Hawaii 96720 | December 1, 2005 | 155166
Illinois: Cook | Village of Inverness, (05-05-0378P) | October 6, 2005, October 13, 2005; Daily Herald | The Honorable John A. Tatooles, Village President, Village of Inverness, 1400 Baldwin Road, Inverness, Illinois 60067 | January 12, 2006 | 170111
Illinois: Cook | Village of South Barrington, (05-05-0378P) | October 6, 2005, October 13, 2005; Daily Herald | The Honorable Frank Munao, Jr., Village President, Village of South Barrington, 30 South Barrington Road, South Barrington, Illinois 60010 | January 12, 2006 | 170161
Illinois: Cook | Unincorporated Areas, (05-05-0378P) | October 6, 2005, October 13, 2005; Daily Herald | The Honorable John H. Stroger, Jr., President, Cook County Board of Commissioners, 118 North Clark Street, Room 537, Chicago, Illinois 60602 | January 12, 2006 | 170054
Illinois: DuPage | Village of Glendale Heights, (05-05-2658P) | June 16, 2005, June 23, 2005; Daily Herald | The Honorable Linda Jackson, Village President, Village of Glendale Heights, 300 Civic Center Plaza, Glendale Heights, Illinois 60139 | June 1, 2005 | 170206
Illinois: Kane | Village of Pingree Grove, (05-05-0119P) | July 21, 2005, July 28, 2005; Elburn Herald | The Honorable Verne E. Wester, Village President, Village of Pingree Grove, 14 N 042 Reinking Road, Hampshire, Illinois 60140 | October 26, 2005 | 171078
Illinois: Kane | Unincorporated Areas, (05-05-0119P) | July 21, 2005, July 28, 2005; Elburn Herald | The Honorable Karen McConnaughay, County Board Chairman Kane County, 719 South Batavia Avenue, Building A, Geneva, Illinois 60134 | October 26, 2005 | 170896
Illinois: Will | Village of Frankfort, (05-05-0039P) | May 12, 2005, May 19, 2005; Daily Southtown | The Honorable Raymond E. Rossi, Mayor, Village of Frankfort, 432 West Nebraska Street, Frankfort, Illinois 60423 | May 3, 2005 | 170701
Illinois: Will | Village of Frankfort, (05-05-2646P) | August 11, 2005, August 18, 2005; Daily Southtown | The Honorable Jim Holland, Mayor, Village of Frankfort, 432 West Nebraska Street, Frankfort, Illinois 60423 | July 18, 2005 | 170701
Illinois: Will | Village of Mokena, (05-05-2180P) | June 16, 2005, June 23, 2005; Daily Southtown | The Honorable Robert Chiszar, Mayor, Village of Moneka, Village Hall, 11004 Carpenter Street, Mokena, Illinois 60448 | June 3, 2005 | 170705
Illinois: Will | Village of University Park, (05-05-1544P) | November 10, 2005, November 17, 2005; Daily Southtown | The Honorable Alvin McCowan, Mayor, Village of University Park, Village Hall, 698 Burnham Drive, University Park, Illinois 60466 | October 28, 2005 | 170708
Illinois: Will | Unincorporated Areas, (05-05-3958P) | October 20, 2005, October 27, 2005; Daily Southtown | The Honorable Lawrence M. Walsh, Will County Executive, Will County Office Building, 302 North Chicago Street, Joliet, Illinois 60432 | January 26, 2006 | 170695
Illinois: Winnebago | Unincorporated Areas, (05-05-4119P) | October 6, 2005, October 13, 2005; Rockford Register Star | The Honorable Scott H. Christiansen, Chairman, Winnebago County Board, 404 Elm Street, Room 504, Rockford, Illinois 61101 | January 12, 2006 | 170720
Indiana: Elkhart | City of Goshen, (04-05-A119P) | November 3, 2005, November 10, 2005; Goshen News | The Honorable Allan Kauffman, Mayor, City of Goshen, 202 South Fifth Street, Goshen, Indiana 46528 | November 18, 2005 | 180058
Indiana: Elkhart | Unincorporated Areas, (04-05-A119P) | November 3, 2005, November 10, 2005; Goshen News | The Honorable Phil Neff, President, Elkhart County, 117 North Second Street, Goshen, Indiana 46526 | November 18, 2005 | 180056
Indiana: Hamilton | Town of Fisher, (05-05-0633P) | September 20, 2005, September 27, 2005; Noblesville Ledger | The Honorable Scott A. Faultless, Town of Council President, Town of Fishers, One Municipal Drive, Fishers, Indiana 46038 | September 9, 2005 | 180423
Kansas: Sedgwick | City of Wichita, (04-07-A643P) | September 8, 2005, September 15, 2005; Wichita Eagle | The Honorable Carlos Mayans, Mayor, City of Wichita, City Hall, First Floor, 455 North Main, Wichita, Kansas 67202 | August 25, 2005 | 200328
Kansas: Sedgwick | Unincorporated Areas, (04-07-A643P) | September 8, 2005, September 15, 2005; Wichita Eagle | The Honorable Dave Unruh, Chairman, Sedgwick County, Board of Commissioners, 525 North Main, Room 320, Wichita, Kansas 67203 | August 25, 2005 | 200321
Kentucky: Daviess | City of Owensboro, (05-04-2200P) | August 18, 2005, August 25, 2005; Messenger-Inquirer | The Honorable Tom Watson, Mayor, City of Owensboro, P.O. Box 10003, Owensboro, Kentucky 42301 | July 27, 2005 | 210063
Maine: Cumberland | Town of Harpswell, (05-01-0539P) | September 22, 2005, September 29, 2005; Portland Press Herald | The Honorable Gordon L. Weil, Chair, Board of Selectmen, Town of Harpswell, P.O. Box 39, Harpswell, Maine 04079 | September 9, 2005 | 230169
Maine: Cumberland | City of Westbrook, (05-01-0338P) | August 25, 2005, September 1, 2005; Portland Press Herald | The Honorable Bruce Chuluda, Mayor, City of Westbrook, City Hall, Two York Street, Westbrook, Maine 04092 | December 1, 2005 | 230054
Maryland: Carroll | Unincorporated Areas, (05-03-0001P) | June 23, 2005, June 30, 2005; Carroll County Times | The Honorable Julia W. Gouge, President, Carroll County, Board of Commissioners, 225 North Center Street, Westminster, Maryland 21157 | September 29, 2005 | 240015
Maryland: Charles | Unincorporated Areas, (05-03-0093P) | October 5, 2005, October 12, 2005; Maryland Independent | The Honorable Wayne Cooper, President, Charles County Commissioners, P.O. Box 2150, La Plata, Maryland 20646 | January 11, 2006 | 240089
Maryland: Harford | Unincorporated Areas, (05-03-0153P) | August 31, 2005, September 7, 2005; The Aegis | The Honorable David R. Craig, County Executive, Harford County, 220 South Main Street, Bel Air, Maryland 21014 | December 7, 2005 | 240040
Massachusetts: Barnstable | Town of Falmouth, (05-01-0294P) | August 25, 2005, September 1, 2005; Cape Cod Times | The Honorable Kevin Murphy, Chairman, Board of Selectmen, Town of Falmouth, Town Hall, 59 Town Hall Square, Falmouth, Massachusetts 02540 | December 1, 2005 | 255211
Massachusetts: Nantucket | Town of Nantucket, (05-01-0428P) | August 25, 2005, September 1, 2005; Cape Cod Times | The Honorable Michael Glowacki, Chairman, Board of Selectmen, Town of Nantucket, Town Building, 16 Broad Street, First Floor, Nantucket, Massachusetts 02554 | December 1, 2005 | 250230
Michigan: Macomb | Charter Township of Clinton, (04-05-A079P) | August 26, 2005, September 2, 2005; Macomb County Legal News | The Honorable Robert J. Cannon, Supervisor, Charter Township of Clinton, 40700 Romeo Plank Road, Clinton Township, Michigan 48038 | December 2, 2005 | 260121
Michigan: Macomb | Township of Macomb, (05-05-1849P) | July 15, 2005, July 22, 2005; Macomb County Legal News | The Honorable John D. Brennan, Supervisor, Macomb Township, 54111 Broughton Road, Macomb, Michigan 48042 | July 5, 2005 | 260445
Michigan: Macomb | Township of Macomb. (04-05-A079P) | August 26, 2005, September 2, 2005; Macomb County Legal News | The Honorable John D. Brennan, Supervisor, Township of Macomb, 54111 Broughton Road, Macomb, Michigan 48042 | December 2, 2005 | 260445
Michigan: Macomb | Township of Washington, (05-05-0637P) | June 1, 2005, June 8, 2005; The Romeo Observer | The Honorable Gary Kirsh, Supervisor, Township of Washington, P.O. Box 94067, Washington, Michigan 48094-4067 | September 7, 2005 | 260447
Michigan: Macomb | Township of Washington, (05-05-0277P) | July 15, 2005, July 22, 2005; Macomb County Legal News | The Honorable Gary Kirsh, Supervisor, Township of Washington, P.O. Box 94067, Washington, Michigan 48094-4067 | July 29, 2005 | 260447
Michigan: Oakland | City of Troy, (05-05-1312P) | November 3, 2005, November 10, 2005; Observer & Eccentric | The Honorable Louise Schilling, Mayor, City of Troy, 500 West Big Beaver, Troy, Michigan 48084 | October 18, 2005 | 260180
Michigan: Wayne | Charter Township fo Brownstown, (05-05-2504P) | July 20, 2005, July 27, 2005; News Herald | The Honorable Arthur F. Wright, Supervisor, Charter Township of Brownstown, 21313 Telegraph Road, Brownstown, Michigan 48183 | October 26, 2005 | 260218
Minnesota: Anoka | City of Blaine, (05-05-1909P) | October 14, 2005, October 21, 2005; Blaine-Spring Lake Park Life | The Honorable Thomas Ryan, Mayor, City of Blaine, 10801 Town Square Drive, Northeast Blaine, Minnesota 55449 | October 4, 2005 | 270007
Minnesota: Olmsted | City of Rochester, (05-05-1180P) | June 16, 2005, June 23, 2005; Post-Bulletin | The Honorable Ardell F. Brede, Mayor, City of Rochester, City Hall, 201 Fourth Street, Southeast Rochester, Minnesota 55904 | September 22, 2005 | 275246
Minnesota: Olmsted | Unincorporated Areas, (05-05-1180P) | June 16, 2005, June 23, 2005; Post Bulletin | Mr. Richard G. Devlin, County Administrator, Olmsted County, 151 Fourth Street Southeast, Rochester, Minnesota 55904 | September 22, 2005 | 270626
Missouri: Boone | City of Centralia, (04-07-A458P) | September 22, 2005, September 29, 2005; Columbia Missourian | The Honorable Jerry Parmeley, Mayor, City of Centralia, 114 South Rollins, Centralia, Missouri 65240 | March 13, 2006 | 290035
Missouri: Boone | Unincorporated Areas, (04-07-458P) | September 22, 2005, September 29, 2005; Columbia Missourian | The Honorable Keith Schnarre, Presiding Commissioner, Boone County, 801 East Walnut, Room 245, Columbia, Missouri 65201-7732 | September 14, 2005 | 290034
Missouri: Jefferson | City of Byrnes Mill, (04-07-A561P) | October 26, 2005, November 2, 2005; Meramec Suburban Journal | The Honorable Timothy Checkett, Mayor, City of Byrnes Mill, 127 Osage Executive Circle, Byrnes Mill, Missouri 63051 | February 1, 2006 | 290891
Missouri: St. Charles | Town of Dardenne Prairie, (04-07-A555P) | June 8, 2005, June 15, 2005; St. Charles Journals | The Honorable Pam Fogarty, Mayor, Town of Dardenne Prairie, 2032 Hanley Road, Dardenne Prairies, Missouri 63366 | September 14, 2005 | 290889
Missouri: St. Charles | City of O'Fallon, (04-07-A555P) | June 8, 2005, June 15, 2005; St. Charles Journals | The Honorable Donna Morrow, Mayor, City of O'Fallon, 100 North Main Street, O'Fallon, Missouri 63366 | September 14, 2005 | 290316
Missouri: St. Charles | City of O'Fallon, (05-07-0504P) | August 24, 2005, August 31, 2005; St. Charles Journals | The Honorable Donna Morrow, Mayor, City of O'Fallon, 100 North Main Street, O'Fallon, Missouri 63366 | August 10, 2005 | 290316
Missouri: St. Charles | City of O'Fallon, (04-07-A375P) | October 19, 2005, October 26, 2005; St. Charles Journals | The Honorable Donna Morrow, Mayor, City of O'Fallon, 100 North Main Street, O'Fallon, Missouri 63366 | January 18, 2006 | 290316
Missouri: St. Charles | City of St. Peters, (05-07-0504P) | August 24, 2005, August 31, 2005; St. Charles Journals | The Honorable Shawn Brown, Mayor, City of St. Peters, P.O. Box 9, St. Peters, Missouri 63376 | August 10, 2005 | 290319
Missouri: St. Charles | Unincorporated Areas, (04-07-A555P) | June 8, 2005, June 15, 2005; St. Charles Journals | The Honorable Joe Ortwerth, County Executive, St. Charles County, 100 North Third Street, St. Charles, Missouri 63301 | September 14, 2005 | 290315
Missouri: St. Charles | Unincorporated Areas, (05-07-0504P) | August 24, 2005, August 31, 2005; St. Charles Journals | The Honorable Joe Ortwerth, County Executive, St. Charles County, 100 North Third Street, St. Charles, Missouri 63301 | August 10, 2005 | 290315
Missouri: St. Charles | Unincorporated Areas, (04-07-A375P) | October 19, 2005, October 26, 2005; St. Charles Journal | The Honorable Joe Ortwerth, County Executive, St. Charles County, 100 North Third Street, St. Charles, Missouri 63301 | January 18, 2006 | 290315
Missouri: St. Charles | Unincorporated Areas, (05-07-0760P) | October 26, 2005, November 2, 2005; St. Charles Journal | The Honorable Joe Ortwerth, County Executive, St. Charles County, 100 North Third Street, St. Charles, Missouri 63301 | February 1, 2006 | 290315
Missouri: St. Charles | City of Weldon Spring, (04-07-A375P) | October 19, 2005, October 26, 2005; St. Charles Journal | The Honorable Donald D. Licklider, Mayor, City of Weldon Spring, 5401 Independence Road, Weldon Spring, Missouri 63304 | January 18, 2006 | 290901
Missouri: St. Charles | City of Wentzville, (05-07-0760P) | October 26, 2005, November 2, 2005; Wentzville Suburban Journal | The Honorable Paul Lambi, Mayor, City of Wentzville, Wentzville City Hall, 310 West Pearce Boulevard, Wentzville, Missouri 63385 | February 1, 2006 | 290320
Nebraska: Douglas | City of Omaha, (04-07-A438P) | October 6, 2005, October 13, 2005; Omaha World Herald | The Honorable Mike Fahey, Mayor, City of Omaha, 1819 Farnam Street, Suite 300, Omaha, Nebraska 68183 | January 12, 2006 | 315274
Nebraska: Douglas | City of Omaha, (05-07-0345P) | October 20, 2005, October 27, 2005; Omaha World Herald | The Honorable Mike Fahey, Mayor, City of Omaha, 1819 Farnam Street, Suite 300, Omaha, Nebraska 68183 | December 3, 2005 | 315274
Nevada: Clark | City of Las Vegas, (05-09-0073P) | October 6, 2005, October 13, 2005; Las Vegas Review-Journal | The Honorable Oscar B. Goodman, Mayor, City of Las Vegas, 400 Stewart Avenue, Las Vegas, Nevada 89101 | January 12, 2006 | 325276
Nevada: Clark | Unincorporated Areas, (04-09-0462P) | May 26, 2005, June 2, 2005; Las Vegas Review-Journal | The Honorable Rory Reid, Chair, Clark County Board of Commissioners, 500 South Grand Central Parkway, Las Vegas, Nevada 89155 | September 1, 2005 | 320003
Nevada: Clark | Unincorporated Areas, (05-09-0285P) | August 25, 2005, September 1, 2005; Las Vegas Review-Journal | The Honorable Rory Reid, Chair, Clark County Board of Commissioners, 500 South Grand Central Parkway, Las Vegas, Nevada 89155 | December 1, 2005 | 320003
Nevada: Clark | Unincorporated Areas, (05-09-1034P) | November 3, 2005, November 10, 2005; Las Vegas Review-Journal | The Honorable Rory Reid, Chair, Clark County Board of Commissioners, 500 South Grand Central Parkway, Las Vegas, Nevada 89155 | February 9, 2006 | 320003
Nevada: Clark | Unincorporated Areas, (05-09-0913P) | November 10, 2005, November 17, 2005; Las Vegas Review-Journal | The Honorable Rory Reid, Chair, Clark County Board of Commissioners, 500 South Grand Central Parkway, Las Vegas, Nevada 89155 | February 16, 2006 | 320003
Nevada: Washoe | City of Sparks, (05-09-0144P) | August 11, 2005, August 18, 2005; Reno Gazette Journal | The Honorable Geno Martini, Mayor, City of Sparks, Sparks City Hall, 431 Prater Way, Sparks, Nevada 89432-0857 | July 21, 2005 | 320021
Nevada: Washoe | Unincorporated Areas, (04-09-1534P) | April 14, 2005, April 21, 2005; Reno Gazette-Journal | The Honorable Bonnie Weber, Commission Chair, Washoe County Commission, 1001 East Ninth Street, Reno, Nevada 89512 | July 21, 2005 | 320019
New Jersey: Monmouth | Borough of Monmouth Beach, (05-02-0298P) | May 24, 2005, May 31, 2005; Asbury Park Press | The Honorable James P. McConville III, Mayor, Borough of Monmouth Beach, Borough Hall, 22 Beach Road, Monmouth Beach, New Jersey 07750 | May 12, 2005 | 340315
New York: Dutchess | Town of Beekman, (05-02-0303P) | August 4, 2005, August 11, 2005; The Voice Ledger | The Honorable John Adams, Town Supervisor, Town of Beekman, Four Main Street, Poughquag, New York 12570 | January 18, 2006 | 361333
North Carolina: Durham | City of Durham, (04-04-A570P) | May 26, 2005, June 2, 2005; The Herald-Sun | The Honorable William V. Bell, Mayor, City of Durham, City Hall, 101 City Hall Plaza, Durham, North Carolina 27701 | September 1, 2005 | 370086
North Carolina: Mecklenburg | Unincorporated Areas, (04-04-B009P) | September 29, 2005, October 6, 2005; Charlotte Observer | Mr. Harry Jones, County Manager, Mecklenburg County, 600 East Fourth Street, 11th Floor, Charlotte, North Carolina 28202 | January 5, 2006 | 370158
New Mexico: Bernalillo | City of Albuquerque, (50-06-0440P) | October 13, 2005, October 20, 2005; The Albuquerque Journal | The Honorable Martin Chavez, Mayor, City of Allbuquerque, P.O. Box 1293, Albuquerque, New Mexico 87103 | September 30, 2005 | 350002
Ohio: Hocking | Unincorporated Areas, (05-05-3596P) | September 15, 2005, September 22, 2005; Logan Daily News | The Honorable Gary Starner, County Commissioner, Hocking County, One East Main Street, Logan, Ohio 43138 | December 22, 2005 | 390272
Ohio: Lucas | City of Toledo, (05-05-0485P) | June 2, 2005, June 9, 2005; Toledo Legal News | The Honorable Jack Ford, Mayor, City of Toledo, One Government Center, Suite 2200, Toledo, Ohio 43604 | September 8, 2005 | 395373
Ohio: Medina | City of Brunswick, (04-05-A934P) | May 19, 2005, May 26, 2005; Brunswick Sun Times | The Honorable Dale Strasser, Mayor, City of Brunswick, 4095 Center Road, Brunswick, Ohio 44212 | August 26, 2005 | 390380
Ohio: Montgomery | City of Englewood, (04-05-B063P) | May 4, 2005, May 11, 2005; Englewood Independent, May 11, 2005, May 18, 2005; Dayton Daily News | The Honorable Michael Bowers, Ph.D., Mayor, City of Englewood, 333 West National Road, Englewood, Ohio 45322 | April 21, 2005 | 390828
Ohio: Warren | City of Mason, (05-05-3134P) | August 11, 2005, August 18, 2005; Pulse Journal | The Honorable Peter A. Beck, Mayor, City of Mason, 6000 Mason-Montgomery Road, Mason, Ohio 45040 | July 18, 2005 | 390559
Oklahoma: Oklahoma | City of Oklahoma City, (05-06-0390P) | September 14, 2005, September 21, 2005; Journal Record | The Honorable Mick Cornett, Mayor, City of Oklahoma City, 200 North Walker, Third Floor, Oklahoma City, Oklahoma 73102 | August 30, 2005 | 405378
Oklahoma: Oklahoma | City of Oklahoma City, (05-06-1527P) | September 15, 2005, September 22, 2005; Journal Record | The Honorable Mick Cornett, Mayor, City of Oklahoma City, 200 North Walker, Third Floor, Oklahoma City, Oklahoma 73102 | August 23, 2005 | 405378
Oregon: Coos | City of Bandon, (05-10-0355P) | June 23, 2005, June 30, 2005; Bandon Westernworld or The World | The Honorable Mary Schamehorn, Mayor, City of Bandon, P.O. Box 67, Bandon, Oregon 97411 | June 16, 2005 | 410043
Oregon: Marion | City of Aumsville, (03-10-0210P) | October 13, 2005, October 20, 2005; Statesman Journal | The Honorable Harold White, Mayor, City of Aumsville, Aumsville City Hall, 595 Main Street, Aumsville, Oregon 97325 | January 19, 2006 | 410155
Oregon: Marion | Unincorporated Areas, (03-12-0210P) | October 13, 2005, October 20, 2005; Statesman Journal | The Honorable Sam Brentano, Chair, Marion County, Board of Commissioners, P.O. Box 14500, Salem, Oregon 97309 | January 19, 2006 | 410154
Oregon: Clackamas, Multnomah Washington | City of Portland, (05-10-0477P) | August 11, 2005, August 18, 2005; The Oregonain | The Honorable Tom Potter, Mayor, City of Portland, 1221 Southwest Fourth Avenue, Room 340, Portland, Oregon 97204 | July 20, 2005 | 410183
Pennsylvania: Clinton | Township of Lamar, (05-03-0397P) | July 13, 2005, July 20, 2005; Renovo Record | The Honorable Michael L. Geyer, Chairman, Board of Supervisors, Township of Lamar, 148 Beagle Road, Mill Hall, Pennsylvania 17751 | October 19, 2005 | 420327
Tennessee: Davidson | Metropolitan Government of Nashville, (05-04-3100P) | November 10, 2005, November 17, 2005; Nashville Record | The Honorable Bill Purcell, Mayor, Metropolitan Government of Nashville and Davidson County,107 Metropolitan Courthouse, 225 Polk Avenue, Nashville, Tennessee 37201 | October 27, 2005 | 470040
Tennessee: Sevier | City of Pigeon Forge, (05-04-0672P) | October 27, 2005, November 3, 2005; The Mountain Press | Ms. Earlene M. Teaster, City Manager, City of Pigeon Forge, P.O. Box 1350, Pigeon Forge, Tennessee 37868 | February 2, 2006 | 475442
Tennessee: Shelby | City of Germantown, (04-04-A700P) | July 21, 2005, July 28, 2005; The Daily News | The Honorable Sharon Goldsworthy, Mayor, City of Germantown, P.O. Box 38809, Germantown, Tennessee 38183-0809 | October 27, 2005 | 470353
Texas: Bexar | City of Converse, (05-06-1186P) | September 7, 2005, September 14, 2005; Daily Commercial Recorder | The Honorable Craig Martin, Mayor, City of Converse, City Hall, 403 South Seguin, Converse, Texas 78109 | December 14, 2005 | 480038
Texas: Bexar | City of San Antonio, (05-06-0027P) | June 30, 2005, July 6, 2005; San Antonio Express-News | The Honorable Edward D. Garza, Mayor, City of San Antonio, City Hall Office, P.O. Box 839966, San Antonio, Texas 78283-3966 | June 7, 2005 | 480035
Texas: Collin | City of Frisco, (05-06-0046P) | July 22, 2005, July 29, 2005; Frisco Enterprise | The Honorable Mike Simpson, Mayor, City of Frisco, City Hall, P.O. Box 1100, Frisco, Texas 75034-1100 | October 27, 2005 | 480134
Texas: Collin | City of Plano, (05-06-0506P) | June 4, 2005, June 9, 2005; Plano Star Courier | The Honorable Pat Evans, Mayor, City of Plano, P.O. Box 860358, Plano, Texas 75086-0358 | May 24, 2005 | 480140
Texas: Collin | City of Plano, (05-06-0249P) | August 11, 2005, August 18, 2005; Plano Star Courier | The Honorable Pat Evans, Mayor, City of Plano, P.O. Box 860358, Plano, Texas 75086-0358 | November 17, 2005 | 480140
Texas: Collin | Unincorporated Areas, (04-06-A195P) | May 11, 2005, May 18, 2005; The Wylie News | The Honorable Ron Harris, Collin County Judge, 210 South McDonald Street, McKinney, Texas 75069 | August 17, 2005 | 480130
Texas: Collin | Unincorporated Areas, (04-06-A195P) | May 11, 2005, May 18, 2005; The Wylie News | The Honorable John Mondy, Mayor, City of Wylie, 2000 State Highway 78 North, Wylie, Texas 75098 | August 17, 2005 | 480759
Texas: Dallas | Town of Addison, (05-06-0244P) | November 17, 2005, November 24, 2005; Dallas Morning News | The Honorable Joe Chow, Mayor, Town of Addison, P.O. Box 9010, Addison, Texas 75001 | February 23, 2006 | 481089
Texas: Dallas | City of Dallas, (04-06-A316P) | May 26, 2005, June 2, 2005; Daily Commercial Record | The Honorable Laura Miller, Mayor, City of Dallas, 1500 Marilla Street, Room 5EN, Dallas, Texas 75201-6390 | May 12, 2006 | 480171
Texas: Dallas | City of Farmer Branch, (05-06-0244P) | November 17, 2005, November 24, 2005; Dallas Morning News | The Honorable Bob Phelps, Mayor, City of Farmers Branch, 12705 Epps Field, Farmers Branch, Texas 75234 | February 23, 2006 | 480174
Texas: Dallas | City of Garland, (04-06-A117P) | June 30, 2005, July 7, 2005; Daily Commercial Record | The Honorable Bob Day, Mayor, City of Garland, P.O. Box 469002, Garland, Texas 75046-9002 | October 5, 2005 | 485471
Texas: Dallas | City of Irving, (04-06-A212P) | October 6, 2005, October 13, 2005; Dallas Morning News | The Honorable Herbert A. Gears, Mayor, City of Irving, 825 West Irving Boulevard, Irving, TX 75060 | September 20, 2005 | 480180
Texas: Dallas | City of Mesquite, (05-06-0938P) | June 23, 2005, June 30, 2005; Mesquite News | The Honorable Mike Anderson, Mayor, City of Mesquite, P.O. Box 850137, Mesquite, TX 75185-0137 | September 29, 2005 | 485490
Texas: Dallas | City of Mesquite, (05-06-0527P) | August 4, 2005, August 11, 2005; Mesquite News | The Honorable Mike Anderson, Mayor, City of Mesquite, P.O. Box 850137, Mesquite, Texas 75185-0137 | November 10, 2005 | 485490
Texas: Dallas | City of Rowlett, (05-06-0921P) | September 23, 2005, September 30, 2005; Rowlett Lakeshore Times | The Honorable C. Shane Johnson, Mayor, City of Rowlett, 4000 Main Street, Rowlett, Texas 75088 | December 30, 2005 | 480185
Texas: Denton | Town of Copper Canyon, (04-06-A302P) | April 14, 2005, April 21, 2005; Denton Record-Chronicle | The Honorable Lawrence Johnson, Mayor, Town of Copper Canyon, 400 Woodland Drive, Copper Canyon, Texas 75077 | July 21, 2005 | 481508
Texas: Denton | Town of Flower Mound, (05-06-1432P) | November 2, 2005, November 9, 2005; Flower Mound Leader | The Honorable Jody A. Smith, Mayor, Town of Flower Mound, 2121 Cross Timbers Road, Flower Mound, Texas 75028 | February 8, 2006 | 480777
Texas: Denton | City of Lewisville, (05-06-0171P) | July 6, 2005, July 13, 2005; Lewisville Leader | The Honorable Gene Cary, Mayor, City of Lewisville, P.O. Box 299002, Lewisville, Texas 75029-9002 | October 12, 2005 | 480195
Texas: Denton | City of Lewisville, (05-06-0576P) | October 5, 2005, October 12, 2005; Lewisville Leader | The Honorable Gene Cary, Mayor, City of Lewisville, P.O. Box 299002, Lewisville, Texas 75029-9002 | September 9, 2005 | 480195
Texas: El Paso | City of El Paso, (05-06-0356P) | July 30, 2005, August 6, 2005; El Paso Times | The Honorable Joe D. Wardy, Mayor, City of El Paso, Two Civic Center Plaza, El Paso, Texas 79901-1196 | July 18, 2005 | 480214
Texas: Harris | Unincorporated Areas, (05-06-0569P) | August 11, 2005, August 18, 2005; Houston Chronicle | The Honorable Robert Eckels, Harris County Judge, 1001 Preston Street, Suite 911, Houston, Texas 77002 | July 29, 2005 | 480287
Texas: Johnson | City of Burleson, (05-06-0320P) | September 14, 2005, September 21, 2005; Burleson Star | The Honorable Kenneth Shetter, Mayor, City of Burleson, 141 West Renfro Street, Burleson, TX 76028 | September 7, 2005 | 485459
Texas: San Patricio | City of Ingleside, (05-06-0918P), (05-06-1433X) | May 19, 2005, May 26, 2005; Ingleside Index | The Honorable Gene Stewart, Mayor, City of Ingleside, P.O. Drawer 400, Ingleside, Texas 78362 | May 16, 2005 | 485480
Texas: Tarrant | City of Benbrook, (05-06-0681P) | May 19, 2005, May 26, 2005; Benbrook News | The Honorable Felix T. Hebert, Mayor, City of Benbrook, P.O. Box 26569, Benbrook, Texas 76126 | May 5, 2005 | 480586
Texas: Tarrant | City of Fort Worth, (04-06-A210P) | May 12, 2005, May 19, 2005; Fort Worth Telegram Star | The Honorable Michael J. Moncrief, Mayor, City of Forth Worth, 1000 Throckmorton Street, Fort Worth, Texas 76102 | August 18, 2005 | 480596
Texas: Tarrant | City of Fort Worth, (04-06-A325P) | July 21, 2005, July 28, 2005; Fort Worth Telegram Star | The Honorable Michael J. Moncrief, Mayor, City of Forth Worth, 1000 Throckmorton Street, Fort Worth, Texas 76102 | July 5, 2005 | 480596
Texas: Tarrant | City of Fort Worth, (05-06-0480P) | August 25, 2005, September 1, 2005; The Star-Telegram | The Honorable Michael J. Moncrief, Mayor, City of Forth Worth, 1000 Throckmorton Street, Fort Worth, Texas 76102 | December 1, 2005 | 480596
Texas: Tarrant | City of Fort Worth, (05-06-0707P) | September 3, 2005, September 8, 2005; Fort Worth Star-Telegram | The Honorable Michael J. Moncrief, Mayor, City of Fort Worth, 1000 Throckmorton Street, Fort Worth, Texas 76102 | September 22, 2005 | 480596
Texas: Tarrant | City of Fort Worth, (05-06-0209P) | October 20, 2005, October 27, 2005; Fort Worth Star-Telegram | The Honorable Michael J. Moncrief, Mayor, City of Fort Worth, 1000 Throckmorton Street, Fort Worth, Texas 76102 | January 26, 2006 | 480596
Texas: Tarrant | City of Grapevine, (05-06-0048P) | May 19, 2005, May 26, 2005; Northeast Tarrant Star Telegram | The Honorable William D. Tate, Mayor, City of Grapevine, P.O. Box 95104, Grapevine, Texas 76099 | May 11, 2005 | 480598
Texas: Tarrant | City of Grapevine, (05-06-0423P) | September 1, 2005, September 8, 2005; Grapevine Sun | The Honorable William D. Tate, Mayor, City of Grapevine, P.O. Box 95104, Grapevine, Texas 76099 | September 9, 2005 | 480598
Texas: Tarrant | City of North Richland Hills, (05-06-0481P) | June 30, 2005, July 7, 2005; Dallas Morning News | The Honorable T. Oscar Trevino, Jr., P.E. Mayor, City of North Richland Hills, 7301 Northeast Loop 820, North Richland Hills, Texas 76180 | October 6, 2005 | 480607
Texas: Tarrant | City of North Richland Hills, (05-06-1126P) | November 3, 2005, November 10, 2005; Dallas Morning News | The Honorable T. Oscar Trevino, Jr., P.E. Mayor, City of North Richland Hills, 7301 Northeast Loop 820, North Richland Hills, Texas 76180 | February 9, 2006 | 480607
Texas: Travis | City of Pflugerville, (04-06-A208P) | September 1, 2005, September 8, 2005; Austin American-Statesman | The Honorable Catherine T. Callen, Mayor, City of Pflugerville, 100 East Main Street, Suite 300, Pflugerville, Texas 78660 | December 8, 2005 | 481028
Virginia: Prince William Independent City | City of Manassas, (04-03-111P) | October 6, 2005, October 13, 2005; Manassas Journal Messenger | The Honorable Douglas S. Waldron, Mayor, City of Manassas, City Hall, 9027 Center Street, Manassas, Virginia 20110 | January 12, 2006 | 510122

(Catalog of Federal Domestic Assistance No. 83.100, “Flood Insurance.”)

Dated: December 5, 2005.
David I. Maurstad,
Acting Director, Mitigation Division, Federal Emergency Management Agency, Department of Homeland Security.

[FR Doc. 05-23950 Filed 12-12-05; 8:45 am]

BILLING CODE 9110-12-P